DEPARTMENT OF ENERGY

Federal Energy Regulatory Commission

[Docket No. RP03-37-000]

Southern LNG Inc.; Notice of Proposed Changes to FERC Gas Tariff

October 25, 2002

Take notice that on October 21, 2002, Southern LNG Inc. (SLNG) tendered for filing as part of its FERC Gas Tariff, Original Volume No. 1, the following revised sheets, with an effective date of October 1, 2002:

Fourth Revised Sheet No. 5

Fourth Revised Sheet No. 6

SLNG states that the purpose of this filing is to add the Commission-approved ACA surcharge to the settlement rates accepted by the Commission's order issued on October 10, 2002 (October 10 Order) in SLNG's Docket No. RP02-129 et al. SLNG has requested that these sheets be made effective as of October 1, 2002, the date the ACA surcharge became effective pursuant to the September 30, 2002 order in Docket No. RP02-523.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-27947 Filed 11-1-02; 8:45 am]

BILLING CODE 6717-01-P